DEPARTMENT OF ENERGY

Official Name of Committee: Nuclear Energy Advisory Committee

AGENCY: Office of Nuclear Energy, Department of Energy.

ACTION: Notice of open meeting.

SUMMARY: This notice announces an open meeting of the Nuclear Energy Advisory Committee. The Federal Advisory Committee Act requires that public notice of this meeting be announced in the Federal Register.

DATES: Wednesday, August 9, 2023; 9:00 a.m.-4:00 p.m.

ADDRESSES: U.S. Department of Energy, 1000 Independence Ave. SW, Washington, DC 20585.

FOR FURTHER INFORMATION CONTACT: Robert Rova, Designated Federal Officer, U.S. Department of Energy, 1000 Independence Ave. SW, Washington, DC 20585; (202) 586-4290; Robert.Rova@nuclear.energy.gov.

SUPPLEMENTARY INFORMATION:

Purpose of the Committee: The Nuclear Energy Advisory Committee provides advice and recommendations to the Assistant Secretary for Nuclear Energy on national policy and scientific aspects of nuclear issues of concern to DOE.

Purpose of Meeting: The Nuclear Energy Advisory Committee will hold a meeting on August 9, 2023, to discuss committee priorities and proposed recommendations for the Assistant Secretary for Nuclear Energy.

Tentative Agenda: The meeting is expected to include presentations that provide the committee updates on activities for the Office of Nuclear Energy. The agenda may change to accommodate committee business. For updates, one is directed the NEAC website: https://www.energy.gov/ne/services/nuclear-energy-advisory-committee.

Public Participation: Written statements may be filed with the Committee either before or after the meeting. Individuals who wish to make oral statements pertaining to agenda items should contact Robert Rova at the address or telephone listed above. Requests for an oral statement must be received at least five days prior to the meeting. Reasonable provision will be made to include requested oral statements in the agenda. The Designated Federal Officer is empowered to conduct the meeting in a fashion that will facilitate the orderly conduct of business. Individuals wishing to make public comments will be provided a maximum of five minutes to present their comments.

Minutes: Minutes will be available by contacting Robert Rova at the address or phone number listed above. Minutes will also be available at the following website: https://www.energy.gov/ne/nuclear-energy-advisory-committee.

Signed in Washington, DC, on July 12, 2023.
LaTanya Butler,
Deputy Committee Management Officer.

[FR Doc. 2023-15113 Filed 7-17-23; 8:45 am]

BILLING CODE 6450-01-P